SMALL BUSINESS ADMINISTRATION

[Disaster Declaration # 12034 and # 12035]

Arkansas Disaster Number AR-00042

AGENCY: U.S. Small Business Administration.

ACTION: Amendment 1.

SUMMARY: This is an amendment of the Presidential declaration of a major disaster for Public Assistance Only for the State of Arkansas (FEMA-1872-DR), dated 02/04/2010.

Incident: Severe Storms and Flooding.

Incident Period: 12/23/2009 through 01/02/2010.

Effective Date: 02/26/2010.

Physical Loan Application Deadline Date: 04/05/2010.

Economic Injury (EIDL) Loan Application Deadline Date: 11/04/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Arkansas, dated 02/04/2010, is hereby amended to include the following areas as adversely affected by the disaster.

Primary Counties: Pulaski

All other information in the original declaration remains unchanged.

(Catalog of Federal Domestic Assistance Numbers 59002 and 59008)

James E. Rivera,
Associate Administrator for Disaster Assistance.

[FR Doc. 2010-4936 Filed 3-8-10; 8:45 am]

BILLING CODE 8025-01-P